DEPARTMENT OF ENERGY

Federal Energy Regulatory Commission

[Project No. 12749-000]

Oregon Wave Energy Partners I, LLC; Notice of Intent To File License Application, Filing of Pre-Application Document, and Approving Use of the Traditional Licensing Process

July 23, 2008.

a. Type of Filing: Notice of Intent to File License Application and Request to Use the Traditional Licensing Process.

b. Project No.: 12749-000.

c. Date Filed: March 7, 2008.

d. Submitted By: Oregon Wave Energy Partners I, LLC.

e. Name of Project: Coos Bay OPT Wave Park.

f. Location: Oregon state territorial waters of the Pacific Ocean, about 3 miles off the coast near Coos Bay, in Coos County, Oregon. A portion of the proposed terrestrial power cable would be buried and pass through United States lands administered by the Bureau of Land Management.

g. Filed Pursuant to: 18 CFR 5.5 and 5.6 of the Commission's regulations.

h. License Applicant Contact: Mr. Charles F. Dunleavy, 1590 Reed Road, Pennington, NJ 08534; (609) 730-0400; or e-mail at edunleavy@oceanpowertech.com.

i. FERC Contact: Jim Hastreiter at (503) 552-2760; or e-mail at: james.hastreiter@ferc.gov.

j. Pursuant to 18 CFR 5.3(a)(2), Oregon Wave Energy Partners I, LLC filed a request to use the Traditional Licensing Process on March 7, 2008, and provided public notice of this request on March 8, 2008. With this notice, the Director of the Office of Energy Projects approves Oregon Wave Energy Partners I, LLC's request to use the Traditional Licensing Process.

k. With this notice, we are initiating informal consultation with: (a) The U.S. Fish and Wildlife Service and/or NOAA Fisheries under section 7 of the Endangered Species Act and the joint agency consultation thereunder at 50 CFR part 402; (b) NOAA Fisheries under section 305(b) of the Magnuson-Stevens Fishery Conservation and Management Act and implementing regulations at 50 CFR 600.920; and (c) the Oregon State Historic Preservation Officer, as required by section 106, National Historic Preservation Act, and the implementing regulations of the Advisory Council on Historic Preservation at 36 CFR 800.2.

l. With this notice, we are designating Oregon Wave Energy Partners I, LLC, as the Commission's non-federal representative for carrying out informal consultation, pursuant to section 7 of the Endangered Species Act, section 305 of the Magnuson-Stevens Fishery Conservation and Management Act, and section 106 of the National Historic Preservation Act

m. Oregon Wave Energy Partners I, LLC filed a Pre-Application Document (PAD) with the Commission pursuant to 18 CFR 5.6 of the Commission's regulations.

n. A copy of the PAD is available for review at the Commission in the Public Reference Room or may be viewed on the Commission's Web site http://www.ferc.gov using the “eLibrary” link. Enter the docket number, excluding the last three digits in the docket number field to access the document. For assistance, contact FERC Online Support at FERCONlineSupport@ferc.gov or toll free at (866) 208-3676, or for TTY, (202) 502-8659. A copy is also available for inspection and reproduction at the address in paragraph h.

Register online at http://ferc.gov/esubscribenow.htm to be notified via e-mail of new filing and issuances related to this or other pending projects. For assistance, contact FERC Online Support.

Kimberly D. Bose,
Secretary.

[FR Doc. E8-17400 Filed 7-29-08; 8:45 am]

BILLING CODE 6717-01-P